DEPARTMENT OF THE TREASURY

Internal Revenue Service

26 CFR Part 1

[REG-107722-00]

RIN 1545-AY22

Corporate Estimated Tax

AGENCY: Internal Revenue Service (IRS), Treasury.

ACTION: Cancellation of notice of public hearing on proposed rulemaking.

SUMMARY: This document cancels a public hearing on proposed regulations and withdraws proposed regulations relating to corporate estimated taxes.

DATES: The public hearing originally scheduled for March 15, 2006, at 10 a.m., is cancelled.

FOR FURTHER INFORMATION CONTACT: Robin R. Jones of the Publications and Regulations Branch, Legal Processing Division, Associate Chief Counsel (Procedure and Administration) at (202) 622-7180 (not a toll-free number).

SUPPLEMENTARY INFORMATION: A notice of proposed rulemaking and notice of public hearing that appeared in the Federal Register on Monday, December 12, 2005 (70 FR 73393) announced that a public hearing was scheduled for March 15, 2006, at 10 a.m., in the IRS Auditorium, Internal Revenue Service Building, 1111 Constitution Avenue, NW., Washington, DC. The subject of the public hearing is under sections 6425 and 6655 of the Internal Revenue Code.

The public comment period for these regulations expired on February 22, 2006.

The notice of proposed rulemaking and notice of public hearing, instructed those interested in testifying at the public hearing to submit a request to speak and an outline of the topics to be addressed. As of Tuesday, February 28, 2006, no one has requested to speak. Therefore, the public hearing scheduled for March 15, 2006, is cancelled.

LaNita VanDyke,
Federal Register Liaison Officer, Legal Processing Division, Associate Chief Counsel, (Procedure and Administration).

[FR Doc. E6-3062 Filed 3-2-06; 8:45 am]

BILLING CODE 4830-01-P